DEPARTMENT OF AGRICULTURE

Forest Service

Notice of Proposed New Fee Site(s)

AGENCY: Forest Service, Agriculture (USDA).

ACTION: Notice of proposed new fee sites.

SUMMARY: The Santa Fe National Forest is proposing to charge new fees at recreation sites listed in Supplementary Information of this notice. Funds from fees would be used for operation, maintenance, and improvements of these recreation sites. An analysis of nearby developed recreation sites with similar amenities shows the proposed fees are reasonable and typical of similar sites in the area.

DATES: If approved, the new fee would be implemented no earlier than six months following the publication of this notice in the Federal Register.

ADDRESSES: Santa Fe National Forest, 11 Forest Lane, Santa Fe, NM 87508.

FOR FURTHER INFORMATION CONTACT: Jeremy Golston, Recreation Program Manager, 505-438-5375 or jeremy.golston@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

The Big Tesuque campground is proposed at $10 per night. The Johnson Mesa, Links Tract, and Oak Flats campgrounds are proposed at $10 for a single and $20 for a double site. Windy Bridge campground is proposed at $15 per night. The Rio Chama campground is proposed at $20 per night. In addition, a $5 extra vehicle fee is proposed for Links Tract, Big Tesuque, Oak Flats, Windy Bridge, Rio Chama, Ev Long, El Porvenir, Holy Ghost, Cowles, Iron Gate, Panchuela, and Johnson Mesa campgrounds.

As part of this proposal, a $5 day-use fee per vehicle at San Gregorio, Big Tesuque, Black Canyon, Little Tesuque, Aspen Vista, Winsor, Winsor Creek, Winsor Ridge, Upper Dalton Fishing Access, Cowles Ponds, East Fork, Dark Canyon, La Junta, Las Casitas, La Cueva, Jemez Falls, Big Eddy Take Out, Chavez Canyon, and Clear Creek would be added to improve services and facilities. A new state-wide New Mexico annual pass is being proposed for $40 for day use sites. The full suite of Interagency passes would be honored.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: March 1, 2022.
Sandra Watts,
Acting Associate Deputy Chief, National Forest System.

[FR Doc. 2022-04702 Filed 3-4-22; 8:45 am]

BILLING CODE 3411-15-P